DEPARTMENT OF THE INTERIOR

Fish and Wildlife Service

Draft Environmental Assessment on the Proposal To Establish Operational/Experimental General Swan Hunting Seasons in the Pacific Flyway

AGENCY: Fish and Wildlife Service, Interior.

ACTION: Notice of availability.

SUMMARY: This notice advises the public that a Draft Environmental Assessment on the Continuation of General Swan Hunting Seasons in Portions of the Pacific Flyway is available for public review. Comments and suggestions are requested.

DATES: You must submit comments on the Draft Environmental Assessment by June 16, 2003.

ADDRESSES: Copies of the Draft Environmental Assessment (DEA) can be obtained by writing to Robert Trost, Pacific Flyway Representative, U.S. Fish and Wildlife Service, Division of Migratory Bird Management, 911 N.E. 11th Avenue, Portland, Oregon 97232-4181. The DEA may also be viewed via the Fish and Wildlife Service Home Page at http://migratorybirds.fws.gov. Written comments can be sent to the address above. All comments received, including names and addresses, will become part of the public record. You may inspect comments during normal business hours at the same address.

FOR FURTHER INFORMATION CONTACT: Robert Trost, Pacific Flyway Representative, (503) 231-6162.

SUPPLEMENTARY INFORMATION: The DEA includes a review of the 5-year experimental general swan hunting seasons that took place from 1995 to 2000, as well as a summary of the results of subsequent 2000-02 hunting seasons. Information from the most recent breeding and wintering populations surveys is also included in the new DEA. Three alternatives are proposed to address the future of operational swan hunting seasons in Utah, Nevada, and the Pacific Flyway portion of Montana. The issuance of a new DEA fulfills the Service commitment to assess the Pacific Flyway swan seasons at the end of the 2002-03 hunting season as established in the most recent DEA on the issue, the availability of which was announced in the April 25, 2001, Federal Register (66 FR 20828). The DEA focuses on the issue of whether or not to establish an operational approach for swan hunting. Related efforts to address population status and distributional concerns regarding the Rocky Mountain Population of trumpeter swans are also discussed. Three alternatives, including the proposed action, are considered.

Dated: April 30, 2003.
Matt Hogan,
Acting Director, Fish and Wildlife Service.

[FR Doc. 03-12343 Filed 5-15-03; 8:45 am]

BILLING CODE 4310-55-P